DEPARTMENT OF LABOR

Bureau of International Labor Affairs; Request for Information on Forced/Indentured Child Labor Pursuant to Executive Order 13126

AGENCY: Office of the Secretary, Labor.

ACTION: Request for information on forced child labor in the production of bricks, coal, foundry products, chemicals, cotton, grape products, toys, and fireworks in China.

SUMMARY: This notice is a request for information to assist the Department of Labor in conducting a review of a submission on forced child labor in the production of bricks, coal, foundry products, chemicals, cotton, grape products, toys, and fireworks in China. This review is being conducted pursuant to Executive Order 13126 (“Prohibition of Acquisition of Products Produced by Forced or Indentured Child Labor”) and the “Procedural Guidelines for Maintenance of the List of Products Requiring Federal Contractor Certification as to Forced or Indentured Child Labor” at 48 CFR Subpart 22.15.

The Department anticipates that written information regarding forced child labor in the above products in China will aid it in determining, in consultation with the Departments of State and Homeland Security, whether these products, and their originating country, should be added to the Executive Order list.

DATES: Submitters of information are requested to provide two (2) copies of their written submission to the Office of Child Labor, Forced Labor and Human Trafficking (OCFT) at the address below by 5 p.m., December 15, 2008.

To Submit Information, or for Further Information, Contact: OCFT, Bureau of International Labor Affairs, U.S. Department of Labor at (202) 693-4843 (this is not a toll free number). Information may be submitted by the following methods:

• Facsimile (fax): OCFT at 202-693-4830.

• Mail, Express Delivery, Hand Delivery, and Messenger Service: Brandie Sasser at U.S. Department of Labor, OCFT, Bureau of International Labor Affairs, 200 Constitution Avenue, NW., Room S-5317, Washington, DC 20210.

• E-mail: EO13126@dol.gov.

SUPPLEMENTARY INFORMATION:

I. Background

Executive Order No. 13126, which was published in the Federal Register on June 16, 1999 (64 FR 32383-32385), declared that it was “the policy of the United States Government” that the executive agencies shall take appropriate actions to enforce the laws prohibiting the manufacture or importation of good, wares articles, and merchandise mined, produced or manufactured wholly or in part by forced or indentured child labor.” Pursuant to the Executive Order, and following public notice and comment, the Department of Labor published in the January 18, 2001, Federal Register, a final list of products (the “List”), identified by their country of origin, that the Department, in consultation and cooperation with the Departments of State and Treasury [relevant responsibilities now within the Department of Homeland Security], had a reasonable basis to believe might have been mined, produced or manufactured with forced or indentured child labor (66 FR 5353). In addition to the List, the Department also published on January 18, 2001, “Procedural Guidelines for Maintenance of the List of Products Requiring Federal Contractor Certification as to Forced or Indentured Child Labor,” which provide for maintaining, reviewing, and, as appropriate, revising the list of products required by Executive Order 13126 (66 FR 5351). The List can be accessed on the Internet at http://www.dol.gov/ilab or can be obtained from: Office of Child Labor, Forced Labor and Human Trafficking, Bureau of International Labor Affairs, Room S-5317, U.S. Department of Labor, 200 Constitution Avenue, NW., Washington, DC 20210; telephone: (202) 693-4843; fax (202) 693-4830. A copy of the Procedural Guidelines is also available from OCFT.

Pursuant to Section 3 of the Executive Order, the Federal Acquisition Regulatory Councils published a final rule in the Federal Register on January 18, 2001, providing that federal contractors who supply products that appear on the List issued by the Department of Labor must certify to the contracting officer that the contractor, or, in the case of an incorporated contractor, a responsible official of the contractor, has made a good faith effort to determine whether forced or indentured child labor was used to mine, produce or manufacture any product furnished under the contract and that, on the basis of those efforts, the contractor is unaware of any such use of child labor. The regulation also imposes other requirements with respect to contracts for products on the Department of Labor's List. See 48 CFR Subpart 22.15.

II. China Executive Order Submission

The Department of Labor accepted for review a submission under Executive Order 13126 regarding the use of forced child labor in the production of bricks, coal, foundry products, chemicals, cotton, grape products, toys, and fireworks in China. Since accepting the submission for official review, OCFT has been collecting and assessing additional information on the topic from a variety of sources.

III. Definition of Forced/Indentured Child Labor

Under Section 6(c) of Executive Order 13126:

“Forced or indentured child labor” means all work or service—

(1) Exacted from any person under the age of 18 under the menace of any penalty for its nonperformance and for which the worker does not offer himself voluntarily; or

(2) Performed by any person under the age of 18 pursuant to a contract the enforcement of which can be accomplished by process or penalties.

Information Sought

The Department is requesting information about forced child labor in the production of bricks, coal, foundry products, chemicals, cotton, grape products, toys, and/or fireworks in China, as well as information on efforts made by the Government of China to address these problems. This notice is a general solicitation of comments from the public. All submitted comments will be made a part of the record of the review referred to above and will be available for public inspection.

Signed at Washington, DC this 9th day of October 2008.
Marcia Eugenio,
Director, Office of Child Labor, Forced Labor and Human Trafficking.

[FR Doc. E8-24410 Filed 10-14-08; 8:45 am]

BILLING CODE 4510-28-P